DEPARTMENT OF HOMELAND SECURITY

Federal Emergency Management Agency

[Docket ID FEMA-2008-0022]

Criteria for Preparation and Evaluation of Radiological Emergency Response Plans and Preparedness in Support of Nuclear Power Plants; NUREG-0654/FEMA-REP-1/Rev. 1 Supplement 4 and FEMA Radiological Emergency Preparedness Program Manual

AGENCY: Federal Emergency Management Agency, DHS.

ACTION: Notice of availability; request for comments.

SUMMARY: The Federal Emergency Management Agency (FEMA) is accepting comments on two documents: the proposed Supplement 4 (Supplement 4) to “Criteria for Preparation and Evaluation of Radiological Emergency Response Plans and Preparedness in Support of Nuclear Power Plants,” NUREG-0654/FEMA-REP-1/Rev. 1 (NUREG-0654), and the proposed Radiological Emergency Preparedness Program Manual (the REPP Manual). NUREG-0654 is a joint document issued by the Nuclear Regulatory Commission (NRC) and FEMA that contains the Evaluation Criteria against which FEMA and the NRC measure the emergency preparedness plans of Nuclear Power Plant owners and operators and the State, local, and Tribal jurisdictions in which they sit. The REPP Manual provides additional implementation guidance for State, local, and Tribal jurisdictions.

Supplement 4 revises and provides additional offsite requirements for emergency preparedness programs at the Nation's nuclear power plants, as well as requirements for backup means for alert and notification, and coordination between licensees and offsite responders. The REPP Manual consolidates all of the FEMA Radiological Emergency Preparedness Program's many operative guidance and policy documents into one location, and provides additional guidance on the proposed changes in Supplement 4.

DATES: Comments must be received on or before August 3, 2009.

ADDRESSES: The proposed Supplement 4 and the proposed REPP Manual are available online at http://www.regulations.gov. You may also view hard copies of these documents at the Office of Chief Counsel, Federal Emergency Management Agency, Room 835, 500 C Street, SW., Washington, DC 20472. You may submit comments on the proposed Supplement 4 and the proposed REPP Manual, identified by Docket ID FEMA-2008-0022, by one of the following methods:

Federal eRulemaking Portal: http://www.regulations.gov. Follow the instructions for submitting comments.

E-mail: FEMA-POLICY@dhs.gov. Include “Docket ID FEMA-2008-0022” in the subject line of the message.

Fax: 703-483-2999.

Mail/Hand Delivery/Courier: Regulation & Policy Team, Office of Chief Counsel, Federal Emergency Management Agency, Room 835, 500 C Street, SW., Washington, DC 20472.

Instructions: All submissions received must include the agency name and Docket ID. Also, because FEMA is collecting comments on two documents in this docket, please also identify the document to which your comment applies. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

Docket: For access to the docket to read background documents or comments received, go to the Federal eRulemaking Portal at http://www.regulations.gov, and search for Docket ID “FEMA-2008-0022.” Submitted comments may also be inspected at FEMA, Office of Chief Counsel, Room 835, 500 C Street, SW., Washington, DC 20472.

FOR FURTHER INFORMATION CONTACT: Craig Fiore, Deputy Chief, Radiological Emergency Preparedness Branch, Technological Hazards Division, National Preparedness Directorate, craig.fiore@dhs.gov, (703) 605-4218.

SUPPLEMENTARY INFORMATION: The Federal Emergency Management Agency (FEMA) is accepting comments on the proposed Supplement 4 to “Criteria for Preparation and Evaluation of Radiological Emergency Response Plans and Preparedness in Support of Nuclear Power Plants,” NUREG-0654/FEMA-REP-1/Rev. 1 (Supplement 4), and the proposed Radiological Emergency Preparedness Program Manual (the REPP Manual). The substance of these proposed policies conforms to changes proposed in the Nuclear Regulatory Commission (NRC) Notice of Proposed Rulemaking entitled “Enhancements to Emergency Preparedness Regulations.” The NRC rulemaking can be found on http://www.regulations.gov in Docket ID NRC-2008-0122.

Supplement 4

As part of the domestic licensing of commercial nuclear power plants (NPPs), FEMA and the NRC evaluate emergency preparedness activities at these facilities. Preparedness activities for a radiological incident at an NPP are an essential part of planning for communities that could be affected by such events. FEMA's role is to review and provide findings to the NRC on planning and preparedness activities of State, local, and Tribal governments, licensee emergency response organizations, if applicable, and other supporting organizations (collectively referred to as Offsite Response Organizations or OROs). FEMA performs this activity before the NRC issues a license to operate a NPP, as well as provides ongoing certifications that planning and preparedness efforts are effective and consistent with relevant regulatory guidelines. The NRC evaluates applicants for NPP site permits, construction permits, and operating licenses. As a part of that evaluation, the NRC reviews the onsite facility licensees' emergency plans and preparedness efforts.

NPP licensees and OROs must show that they have plans in place that provide a reasonable assurance that adequate protective measures will be taken to protect public health and safety in the event of an incident at an NPP. The NRC evaluates the adequacy of the onsite plans and capabilities, and FEMA evaluates the adequacy of the offsite plans and capabilities by applying 16 planning standards. The planning standards are contained in FEMA regulations at 44 CFR 350.5 and NRC regulations at 10 CFR part 50 (including Appendix E).

The NRC and FEMA have also developed a number of evaluation criteria that the agencies use to determine compliance with each of the 16 planning standards. Those evaluation criteria are contained in NUREG-0654 which is incorporated by reference into FEMA's regulations at 44 CFR part 350, as well as contained in NRC regulations at 10 CFR part 50. As such, the criteria established in NUREG-0654 are binding upon both NPP licensees and the OROs responsible for offsite emergency preparedness planning in the areas surrounding the NPP.

Supplement 4 adds to, and in limited situations revises, evaluation criteria contained in NUREG-0654. The changes in Supplement 4 are being proposed to address four emerging issues: (1) Preparing for and responding to hostile action-based (HAB) events at NPPs; (2) enhancing scenario realism and reducing negative training and pre-conditioned responses to exercise participants; (3) aligning the offsite Radiological Emergency Preparedness (REP) Program with the national preparedness initiatives under Homeland Security Presidential Directives 5 and 8; and (4) ensuring backup means are in place for alert and notification systems.

As previously mentioned, NUREG-0654 is currently incorporated by reference into FEMA's regulations at 44 CFR part 350. Should Supplement 4 become final, FEMA intends to update the incorporation by reference to include not only the original NUREG-0654, but also its supplements, including Supplement 4. In doing so, FEMA intends to make the substance proposed in Supplement 4 binding on OROs.

The REPP Manual

The REPP Manual is intended to be the principal source of policy and guidance for FEMA's REP Program. The REPP Manual provides an overview along with additional guidance to aid ORO planners, responders, and emergency management professionals. This manual provides additional guidance with respect to the planning standards established in 44 CFR part 350 and the evaluation criteria contained in NUREG-0654 and its Supplements. The REPP Manual does not create new requirements or evaluation criteria.

In August 2002, FEMA released a Draft REPP Manual for interim use by OROs, NPP licensees, FEMA Regional staff, the NRC, and other stakeholders in developing plans or assessing planning and preparedness in communities surrounding the Nation's NPPs. The document currently available for comment is an updated version of the REPP Manual. This document contains only proposed guidance, however, and it will not be effective until comments have been received and adjudicated by FEMA, and the final version has been published.

The proposed REPP Manual incorporates and updates previously-issued FEMA Guidance Memoranda (GMs), policy memoranda, and some FEMA-REP series documents. The REPP Manual effectively retires these documents from use as independent resources. Guidance on specific technical areas and other REP Program documents that FEMA was unable to incorporate have been retained as “technical references.” The remaining stand-alone FEMA-REP series documents and these technical references are listed in Appendix C and cited in the applicable parts of this proposed REPP Manual. The retired guidance documents are listed in Appendix D as a historical resource. To the greatest extent possible, FEMA will issue all future REP Program guidance as amendments to the applicable parts of the REPP manual.

In updating the 2002 Draft REPP Manual, FEMA made important changes to both the language and the substance of the document. First, FEMA conducted a “plain English” review to produce a more easily understandable document by considering the audience's needs and avoiding unnecessary words, jargon, technical terms, and long and ambiguous sentences. Second, the new REPP Manual provides guidance on the integration of terms and concepts found in the National Incident Management System/Incident Command System and in the National Exercise Program, Homeland Security Exercise Evaluation Program (HSEEP). (Note: Because both HSEEP and REP are evolving programs, additional revisions and modifications may be necessary.) Further, the REPP Manual provides additional guidance on the new or revised evaluation criteria proposed in Supplement 4 and the NRC's proposed rulemaking.

Authorities: FEMA proposes to issue the new REPP Manual, and FEMA and the NRC propose to issue Supplement 4 to NUREG-0654 under the authority of: Reorganization Plan No. 3 of 1978; Presidential Directive of Dec. 7, 1979; Executive Order 12148 “Federal Emergency Management”; section 201 of the Disaster Relief Act of 1974, 42 U.S.C. 5131, as amended by the Robert T. Stafford Disaster Relief and Emergency Assistance Act, as amended (Pub. L. 93-288); Homeland Security Act of 2002, 6 U.S.C. 101 et seq., as amended by the Post Katrina Emergency Management Reform Act (Pub. L. 109-295); NRC Authorization Acts of 1980 (Pub. L. 96-295) and 1982-1983 (Pub. L. 97-415); Atomic Energy Act of 1954, as amended, 42 U.S.C. 2011 et seq.; Energy Reorganization Act of 1974, 42 U.S.C. 5801 et seq.; Energy Policy Act of 2005, 42 U.S.C. 15801 note; Homeland Security Presidential Directive 5: Management of Domestic Incidents; and Homeland Security Presidential Directive 8: National Preparedness; 10 CFR part 50; 10 CFR part 50, Appendix E; 44 CFR part 350.

Dated: May 5, 2009.
David Garratt,
Acting Deputy Administrator, Federal Emergency Management Agency.

[FR Doc. E9-10951 Filed 5-15-09; 8:45 am]

BILLING CODE 9110-21-P